DEPARTMENT OF COMMERCE

National Oceanic and Atmospheric Administration

DEPARTMENT OF THE INTERIOR

Fish and Wildlife Service

Availability of Tagshinney Tree Farm Conservation Plan, Lewis County, WA

AGENCIES: Fish and Wildlife Service, Interior; National Marine Fisheries Service, NOAA, Commerce.

[I.D. 012103G]

ACTION: Notice of availability.

SUMMARY: Tom and Sherry Fox, and the co-owners of the Tagshinney Tree Farm (Applicants), have applied to the U.S. Fish and Wildlife Service and National Marine Fisheries Service (together, the Services) for Enhancement of Survival Permits and an Incidental Take Permit (Permits) pursuant to the Endangered Species Act of 1973, as amended (Act). The permit applications include a proposed Safe Harbor Agreement (SHA) and Candidate Conservation Agreement with Assurances (CCAA) between the Applicants and the U.S. Fish and Wildlife Service (FWS), and a proposed low effect Habitat Conservation Plan (HCP) between the Applicants and the National Marine Fisheries Service (NMFS). These three documents are combined into one document entitled the “Tagshinney Tree Farm Conservation Plan” (Plan). The Permits and Plan would have a duration of 80 years, and would address forest management, timber harvest, and fish and wildlife habitat needs on five separate land parcels that together form the 144-acre Tagshinney Tree Farm in Lewis County, WA. The Services have made a preliminary determination that this proposed action is eligible for categorical exclusion under the National Environmental Policy Act of 1969. The Services explain the basis for this determination in an Environmental Action Statement, which is also available for public review.

The Services are furnishing this notice to allow other agencies and the public an opportunity to review and comment on these documents, including the proposed permit applications, the Plan, and National Environmental Policy Act categorical exclusion documentation. All comments received will become part of the public record and will be available for review pursuant to the Act.

DATES: Written comments from all interested parties must be received on or before April 25, 2003.

ADDRESSES: Requests for documents and comments should be addressed to: Craig Hansen, U.S. Fish and Wildlife Service, 510 Desmond Drive SE, Suite 102, Lacey, WA 98503, telephone (360) 534-9330, fax (360) 753-9518; and/or Mike Parton, National Marine Fisheries Service, 510 Desmond Drive SE, Suite 103, Lacey, WA 98503, telephone (360) 753-4650, fax (360) 753-9517.

FOR FURTHER INFORMATION CONTACT: Craig Hansen or Mike Parton at the above address or telephone number.

SUPPLEMENTARY INFORMATION: Background

Section 9 of the Act and Federal regulations prohibit the “taking” of a species listed as endangered or threatened. The term take is defined under the Act to mean harass, harm, pursue, hunt, shoot, wound, kill, trap, capture, or collect, or to attempt to engage in any such conduct. Harm is defined by the FWS to include significant habitat modification or degradation where it actually kills or injures wildlife by significantly impairing essential behavioral patterns, including breeding, feeding, and sheltering (50 CFR 17.3). The NMFS's definition of harm includes significant habitat modification or degradation where it actually kills or injures fish or wildlife by significantly impairing essential behavioral patterns, including breeding, spawning, rearing, feeding, and sheltering (50 CFR 222.102).

The Services may issue two types of permits under section 10(a) of the Act to non-Federal landowners to take listed species, under certain terms and conditions. FWS's regulations governing permits for threatened and endangered species are promulgated in 50 CFR 17.32 and 50 CFR 17.22; NMFS regulations governing permits for threatened and endangered species are promulgated at 50 CFR 222.307.

The first of these two types of permits is the Enhancement of Survival Permit, which is authorized under section 10 (a)(1)(A) of the Act. Enhancement of Survival Permits may be issued for activities that enhance the propagation or survival of the affected species that would otherwise be prohibited by section 9 of the Act. To implement this provision of the Act, the Services issued a joint policy for developing SHAs for listed species and CCAAs for unlisted species on June 17, 1999 (64 FR 32726). The FWS simultaneously issued regulations for implementing SHAs and CCAAs on June 17, 1999 (64 FR 32706). A correction to the FWS final rule was announced on September 30, 1999 (64 FR 52676). On September 13, 2002, NMFS issued regulations to allow transfers of certain incidental take permits and enhancement of survival permits associated with SHAs, and CCAAs.

SHAs provide private landowners that undertake voluntary conservation actions on their land assurances that their future land-use activities will not be restricted further as a result of these proactive conservation efforts. If a landowner voluntarily enters into a SHA to manage his or her lands in a manner that attracts endangered or threatened species or otherwise increases their presence, the Safe Harbor assurances guarantee that no additional regulatory requirements for those lands will be imposed on the landowners as a result of the proactive conservation measures. The purpose of the Safe Harbor approach is to reduce the disincentives (e.g., fear of regulatory restrictions) that often cause landowners to avoid or prevent land use practices that would otherwise benefit endangered species.

CCAAs are intended to help conserve proposed, candidate species, and species likely to become candidates by giving non-Federal landowners incentives to implement conservation measures for declining species. The primary incentive for CCAAs is an assurance that no further land, water, or resource use restrictions would be imposed should the species later become listed under the Act.

The second of these two types of permits is the Incidental Take Permit, which is authorized under section 10(a)(1)(B) of the Act. A proposed Incidental Take Permit must be accompanied by a Habitat Conservation Plan (HCP) that shows: (1) The taking will be incidental; (2) the applicants will, to the maximum extent practicable, minimize and mitigate the impacts of such taking; (3) the applicants will ensure that adequate funding for the conservation plan will be provided; (4) the taking will not appreciably reduce the likelihood of survival and recovery of the species in the wild; and (5) such other measures the Services may require as necessary or appropriate for the purposes of the HCP. HCPs can address both listed and currently unlisted species.

Though the names of these three permitting tools are different, the goals are similar, and the strategies for achieving those goals can overlap. Conservation strategies can, therefore, be developed to fulfill SHA, CCAA, and HCP requirements in a single conservation plan.

The Current Proposal

Tom and Sherry Fox, Gary Davis, and Jim and Tricia Murphy, have applied to the Services for Enhancement of Survival Permits and an Incidental Take Permit under sections 10(a)(1)(A) and 10(a)(1)(B), respectively, of the Act. Currently listed species under FWS jurisdiction are addressed in the SHA portion of the Plan for an Enhancement of Survival Permit and include the threatened northern spotted owl (Strix occidentalis caurina), marbled murrelet (Brachyramphus marmaratus), and bald eagle (Haliaeetus leucocephalus).

Currently unlisted species under FWS jurisdiction are addressed in the CCAA portion of the Plan for an Enhancement of Survival Permit and include one species that is a candidate for Federal listing, the Oregon spotted frog (Rana pretiosa). Other CCAA species include the coastal cutthroat trout (Oncorhynchus clarki clarki), northern goshawk (Accipiter gentilis), olive-sided flycatcher (Contoupus borealis), long-eared myotis (Myotis evotis), long-legged myotis (Myotis volans) the Pacific Townsend's big-eared bat (Corynorthinus townsendii), Van Dyke's salamander (Plethodon vandykei), the northwestern pond turtle (Clemmys marmorata), great blue heron (Ardea herodias), pileated woodpecker (Dryocopus pileatus), and osprey (Pandion haliaetus).

Both currently listed and unlisted species under NMFS jurisdiction are addressed in the HCP portion of the plan for an incidental take permit and include the threatened Lower Columbia River steelhead (Oncorhynchus mykiss), and a Federal candidate species, the Lower Columbia coho salmon (Oncorhynchus kisutch).

The Applicants are proposing to manage their timberlands in Lewis County, WA for a period of 80 years under the Plan. The forest management actions proposed by the applicants will maintain long-term economic viability of the forest management operations. This proposal will also provide better habitat conditions for the covered species than managing under current State Forest Practices Regulations. The conservation provided in this 80-year Plan is intended to improve habitat conditions by maintaining and enhancing habitat, minimize the impacts of forest management activities to species addressed in the plan, contribute to the recovery of the species in the wild and, if undertaken by other property owners similarly situated on the landscape, preclude the need to list the unlisted species in the future. Forest management activities are planned to enhance the health and vigor of the forest, reduce incidence of insect and disease in the forest, and enhance the structural characteristics of the forests to provide functional fish and wildlife habitat for the species addressed in the Plan, and other wildlife species found on the applicants' parcels.

This action would occur in an environment where the lands surrounding the Tagshinney Tree Farm are increasingly being utilized for non-forest management activities. For example, chicken farms, dairy farms and associated pastureland, and housing developments are located within one-half mile of the applicants' parcels. Landowners in Lewis County near the major highways are often solicited to sell their lands for use in developing housing projects. If issued, the Permits would remove the regulatory disincentives associated with providing habitat for listed and declining species. Thus, the Applicants are more likely to keep their property in a forested condition that functions as fish and wildlife habitat, and would be less likely to convert their forest lands to another use such as a housing development.

Permit Evaluation Process

This notice is provided pursuant to section 10(c) of the Act, and National Environmental Policy Act regulations. The Services will evaluate the application, associated documents, and comments submitted thereon to determine whether the application meets the requirements of the Endangered Species Act and National Environmental Policy Act. The criteria by which our decisions will be made are listed and discussed in the draft Plan at sections II(B) Regulatory Planning Environment, and II(E) Proposed Action and Decisions Needed. We ask that commenters focus their comments on the merits of the Plan, the permit issuance requirements, and the Environmental Action Statement which will assist us in our decision of whether to issue the permits or not. Comments on issues other than the these will be considered to be beyond the scope of the decision associated with the Plan.

If the Services ultimately determine that the requirements are met, the requested Enhancement of Survival Permits and Incidental Take Permit will be issued. The final permit decisions will be made no sooner than 30 days from the date of this notice.

Dated: March 20, 2003.
Rowan Gould,
Acting Regional Director, Fish and Wildlife Service, Region 1, Portland, Oregon

Dated: March 20, 2003.
Phil Williams,
Chief, Endangered Species Division, Office of Protected Resources, National Marine Fisheries Service.

[FR Doc. 03-7256 Filed 3-25-03; 8:45 am]

BILLING CODES 3510-22-S, 4310-55-S